DEPARTMENT OF COMMERCE

International Trade Administration

[A-570-504]

Notice of Final Results and Rescission, in Part, of the Antidumping Duty Administrative Review: Petroleum Wax Candles From the People's Republic of China

AGENCY: Import Administration, International Trade Administration, Department of Commerce.

SUMMARY: The Department of Commerce (the Department) is conducting an administrative review of the antidumping duty order on petroleum wax candles from the People's Republic of China (PRC) in response to requests from the following entities: Dongguan Fay Candle Co., Ltd. (Fay Candle), a PRC producer and exporter of subject merchandise, and its U.S. importers, TIJID, Inc. (d/b/a DIJIT Inc.) (TIJID), and Palm Beach Home Accents, Inc. (Palm Beach); Qingdao Kingking Applied Chemistry Co., Ltd. (Kingking); and the Petitioner, the National Candle Association (NCA). The review covers the period August 1, 2001 through July 31, 2002.

We determine that sales have been made below normal value (NV). The final results are listed below in the section titled “Final Results of Review.” We will instruct U.S. Customs and Border Protection (CBP) to assess antidumping duties on imports into the United States of subject merchandise exported by the respondents.

EFFECTIVE DATE: March 15, 2004.

FOR FURTHER INFORMATION CONTACT: Sally Gannon at (202) 482-0162 or Mark Hoadley at (202) 482-3148, Office of AD/CVD Enforcement VII, Import Administration, International Trade Administration, U.S. Department of Commerce, 14th Street and Constitution Avenue, NW., Washington, DC 20230.

SUPPLEMENTARY INFORMATION:

Background

On September 2, 2003, the Department issued the preliminary results of its administrative review of the antidumping duty order on petroleum wax candles from the People's Republic of China in the Federal Register, 68 FR 53109 (September 9, 2003) (Preliminary Results). On August 26, 2003, prior to the Preliminary Results, we received a letter from the Petitioner describing Fay Candle's involvement as a petitioning creditor in an involuntary bankruptcy proceeding brought against TIJID in the United States Bankruptcy Court for the Southern District of Florida. On August 29, 2003, we received comments from Fay Candle, TIJID, and Palm Beach on the above-referenced bankruptcy proceeding. Both of these submissions were received too late for the Department to examine them for purposes of the Preliminary Results. On September 8, 2003, we received rebuttal comments from the Petitioner on the bankruptcy proceeding. On September 16, 2003, the Department issued a memorandum to the file notifying interested parties that it was postponing the October 9, 2003 case brief and October 14, 2003 rebuttal brief deadlines until further notice. On September 29, 2003, we received comments on surrogate value data from Fay Candle. On September 30, 2003, the Department issued a fourth supplemental questionnaire to Fay Candle.

On October 3, 2003, we received a request for a public hearing from Li & Fung (Trading) Ltd. (Li & Fung). On October 7, 2003, the Petitioner requested a public hearing to address the dumping margin for Kingking. On October 8, 2003, we received comments from the Petitioner regarding discrepancies between the U.S. sales quantity and value totals which Kingking reported to the Department and CBP data. On October 8, 2003, we received a request from Fay Candle to extend the time to respond to the Department's fourth supplemental questionnaire. On October 9, 2003, we received rebuttal comments from the Petitioner on the surrogate value data previously submitted by Fay Candle. On October 9, 2003, Fay Candle requested a hearing in this matter to address the issues from the Preliminary Results. On October 9, 2003, J.C. Penney Purchasing Corporation and Wal-Mart Stores, Inc. (Wal-Mart), importers of the subject merchandise, submitted a letter raising objections to aspects of the Department's Preliminary Results.

On October 9, 2003, we received a letter from Fay Candle requesting that the Department postpone verification of Fay Candle scheduled to start on October 20, 2003 in the PRC. On October 10, 2003, the Department extended the time for Fay Candle to respond to the Department's fourth supplemental questionnaire to October 15, 2003. In a letter dated October 10, 2003, we asked Fay Candle to explain why it requested a postponement of the verification scheduled to begin October 20, 2003 in the PRC. On October 10, 2003, we received comments from the Petitioner regarding the involuntary bankruptcy petition for TIJID and a related civil suit by TIJID against Wal-Mart. On October 10, 2003, we received comments from the Petitioner regarding the Department's factors of production verification of Fay Candle. On October 15, 2003, the Department issued a verification outline to Fay Candle for the PRC verification. On October 15, 2003, we received a request from Fay Candle for a second extension of the deadline to respond to the Department's fourth supplemental questionnaire. On October 16, 2003, the Department issued a memorandum to the file offering to postpone the PRC verification scheduled to start on October 20, 2003 and proposing to conduct the PRC verification starting October 27, 2003. On October 16, 2003, the Department issued a second memorandum to the file noting that Fay Candle had accepted the Department's offer to postpone the PRC verification scheduled to begin on October 20, 2003 and had agreed to starting the PRC verification on October 27, 2003.

On October 16, 2003, the Department issued a memorandum to the file notifying the parties that it was accepting the submissions from the Petitioner and Fay Candle, respectively, regarding the involuntary bankruptcy petition of TIJID. On October 16, 2003, the Department issued a memorandum to the file granting Fay Candle an extension of time to respond to the Department's fourth supplemental questionnaire. On October 20, 2003, we received another request from Fay Candle to postpone the PRC verification, which had been rescheduled to begin on October 27, 2003. In its letter, Fay Candle proposed that the Department commence the verification of the U.S. importers on November 10, 2003 and commence verification of Fay Candle in the PRC on November 17, 2003. On October 20, 2003, we received Fay Candle's response to the Department's fourth supplemental questionnaire. On October 20, 2003, the Department issued a memorandum to the file noting that Fay Candle no longer consented to the PRC verification of Fay Candle starting on October 27, 2003. On October 24, 2003, the Department received comments from the Petitioner objecting to further delays in the verification of Fay Candle. On October 24, 2003, the Department issued a memorandum to the file outlining a briefing schedule for the interested parties, the Petitioner, and Respondents.

On October 28, 2003, the Department received a letter from Fay Candle withdrawing its request for an administrative review; however, the review could not be rescinded because the Petitioner had also requested a review of Fay Candle. On October 29, 2003, the Department issued a verification outline to Fay Candle for the Florida verification. On October 29, 2003, the Department issued a memorandum to the file notifying the parties that the Department had previously accepted the Petitioner's submissions dated August 26, 2003 and September 8, 2003 regarding the involuntary bankruptcy petition against TIJID, and notifying Fay Candle that if it intended to submit rebuttal information regarding the involuntary bankruptcy petition, then Fay Candle would need to request an extension of time for any such submissions. On October 30, 2003, the Department received comments from the Petitioner objecting to Fay Candle's request to withdraw from this administrative review. On November 4, 2003, we received comments from Fay Candle clarifying that it did not request withdrawal from this administrative review in its letter dated October 28, 2003. According to Fay Candle, it requested the Department to exercise its discretion to extend the time limit for Fay Candle to withdraw its August 30, 2002 request for review so that the Department could then rescind the review with respect to Fay Candle.

The Department conducted verification of Fay Candle at the office of its U.S. importers, TIJID and Palm Beach, on November 6, 2003 and November 7, 2003. On November 13, 2003, we received case briefs from the Petitioner and Fay Candle. On November 18, 2003, we received rebuttal briefs from Fay Candle, Li & Fung, American Greetings Company, and Petitioner. The Department conducted verification of Fay Candle overseas from November 17, 2003 to November 21, 2003. On December 24, 2003, the Department issued its verification reports. On January 6, 2003, we received a letter from the Petitioner regarding a safety recall of candles made by Kingking and sold in the United States by Wal-Mart. On January 7, 2004, the Department issued a memorandum to the file notifying the parties that comments on the Department's verification reports for Fay Candle would be due by January 16, 2004 and rebuttal comments would be due on January 23, 2003.

On January 9, 2004, we received a request from the Petitioner to withdraw its request for a public hearing on the issue of Kingking's dumping margin. On January 16, 2004, the Department received comments from the Petitioner and Fay Candle on the verification reports. On January 22, 2004, the Department issued a memorandum to the file notifying the parties that it would hold a public hearing on February 6, 2004, regarding the issue of the status of Li & Fung. On January 23, 2004, the Department received rebuttal comments on the verification reports from the Petitioner and from Fay Candle. On February 3, 2004, the Department postponed the hearing scheduled for February 6, 2004. On February 13, 2004, Fay Candle withdrew its request for a hearing in this matter. On February 13, 2004, the Department re-scheduled the hearing on the issue of Li & Fung's status for February 20, 2004, and notified parties that we were setting up a special briefing schedule for comment solely on Li & Fung's status. On February 17, 2004, the Department received special case briefs from Li & Fung and the Petitioner. On February 19, 2004, the Department received special rebuttal briefs from Li & Fung and the Petitioner. On February 20, 2004, a hearing was held in this proceeding on the status of Li & Fung. We have now completed this administrative review in accordance with section 751(a) of the Tariff Act of 1930, as amended (the Act).

Scope of the Antidumping Order

The products covered by this order are certain scented or unscented petroleum wax candles made from petroleum wax and having fiber or paper-cored wicks. They are sold in the following shapes: tapers, spirals, and straight-sided dinner candles; rounds, columns, pillars, votives; and various wax-filled containers. The products were classified under the Tariff Schedules of the United States (TSUS) item 755.25, Candles and Tapers. The products are currently classified under the Harmonized Tariff Schedule of the United States, Annotated for Statistical Reporting Purposes (2004) (HTSUS) item 3406.00.00. Although the HTSUS subheading is provided for convenience and customs purposes, our written description of the scope of this proceeding remains dispositive.

Period of Review

The period of review (POR) is August 1, 2001 through July 31, 2002.

Verification

Pursuant to section 782(i) of the Act, the Department verified the information submitted by Fay Candle for use in our final results. The Department used standard verification procedures including examination of relevant accounting and production records, and original source documents provided by the respondents. See PRC Verification Report and U.S. Verification Report.

Analysis of Comments Received

The issues raised in all the case and rebuttal briefs by parties to this administrative review are addressed in the Issues and Decision Memorandum from Joseph A. Spetrini, Deputy Assistant Secretary for Import Administration to James J. Jochum, Assistant Secretary for Import Administration regarding the Final Results of Antidumping Duty Administrative Review of Petroleum Wax Candles from the People's Republic of China, dated March 8, 2004 (Decision Memorandum), which is hereby adopted by this notice. A list of the issues which parties have raised and to which we have responded, all of which are addressed in the Decision Memorandum, is attached to this notice as Attachment I. Parties can find a complete discussion of all issues raised in this review and the corresponding recommendations in this public memorandum which is on file in the Central Records Unit, Room B-099 of the main Department building. In addition, a complete version of the Decision Memorandum can be accessed directly on the Web at http://ia.ita.doc.gov. The paper copy and electronic version of the Decision Memorandum are identical in content.

Final Rescission, in Part, of Administrative Review

Pursuant to our regulations, the Department may rescind an administrative review if the Secretary concludes that, during the period covered by the review, there were no entries, exports, or sales of the subject merchandise. See 19 CFR 351.213(d)(3). In our Preliminary Results, the Department preliminarily rescinded this review with respect to four companies that reported no shipments during the POR: Dalian Hanbo Lighting Co., Ltd. (Dalian Hanbo); Premier Candle Co., Ltd. (Premier Candle); Zhong Hang-Scanwell International (ZHS); Zen Continental Co., Inc. See Memorandum from Javier Barrientos through Sally Gannon to Barbara E. Tillman, Regarding Petroleum Wax Candles from the People's Republic of China: Preliminary Intent to Rescind Antidumping Duty Administrative Review, in Part (POR: August 1, 2001 to July 31, 2002), dated September 2, 2003 (Intent to Rescind Memo). In the Preliminary Results, we stated that we found no evidence that there were entries, exports, or sales of the subject merchandise by these companies. Since the Preliminary Results, no new information has been obtained or submitted which would alter our decision to rescind the review with respect to these four companies. Therefore, for these final results and in accordance with 19 CFR 351.213(d)(3), the Department is finally rescinding, in part, this review with respect to Dalian Hanbo, Premier Candle, ZHS, and Zen Continental.

With respect to a fifth company, Li & Fung, which claimed it was merely a buying agent for the subject merchandise during the POR and not an exporter or producer, the Department found in the Preliminary Results that its review of the CBP data for the POR did not support Li & Fung's claim that it acted only as a buying agent during the POR. See Preliminary Results and Intent to Rescind Memo. Since the Preliminary Results, Li & Fung and the Petitioner submitted special case and rebuttal briefs on this issue and a public and closed hearing was held regarding the status of Li & Fung in this administrative review.

The Department finds for these final results that Li & Fung has not demonstrated that the data which the Department obtained from CBP is incorrect and that the Department should, thus, rescind this review, in part, with respect to Li & Fung. As noted above, in the Preliminary Results the Department determined that Li & Fung's claim that it had no shipments had not been substantiated, based on data obtained from CBP for the POR. See Preliminary Results. As such, Li & Fung bears the burden of demonstrating to the Department that the CBP data is incorrect or has been misinterpreted. While Li & Fung has provided an explanation in its briefs and some evidence in its February 6, 2003 submission which supports its claim that it has served as a buying agent, it provided no evidence that directly rebutted the information obtained from CBP. The Department's task in this administrative review is to determine whether or not Li & Fung has provided sufficient relevant evidence that it did not sell or export subject merchandise during this POR such that the review should be rescinded, in part, with respect to Li & Fung. In this respect, Li & Fung has failed to present relevant evidence to refute our decision in the Preliminary Results. For a more detailed analysis of this issue, see Decision Memorandum at Comment 3; see also Memorandum to Barbara E. Tillman, through Sally C. Gannon, from Javier Barrientos; Petroleum Wax Candles from the People's Republic of China for the Period of August 1, 2001 through July 31, 2002: Status of Li & Fung (Trading) Ltd., for the Final Results, dated March 8, 2004 (Li & Fung Final Memo). Therefore, for the final results, because Li & Fung has not demonstrated that it did not sell or export the subject merchandise during the POR, the Department has not rescinded this review, in part, with respect to Li & Fung. See Decision Memorandum, at Comment 3.

Separate Rates

Fay Candle, Kingking, Shandong Jiaye General Merchandise Co., Ltd. (Shandong Jiaye) , and Shanghai Charming Wax Co., Ltd. (Shanghai Charming) all requested a separate, company-specific rate.¹ In the Department's Preliminary Results, because evidence on the record indicated an absence of government control, both in law and in fact, over Fay Candle's, Kingking's, Shandong Jiaye's, and Shanghai Charming's export activities, we preliminarily determined that these companies met the requirements for receiving a separate rate for purposes of this review. There have been no changes to the record information since the Preliminary Results with regard to separate rates for Fay Candle, Shandong Jiaye, and Shanghai Charming. Therefore, for these final results, we continue to determine that these three companies will receive separate rates.²

¹ As noted in the Preliminary Results, although Smartcord, a mandatory respondent, submitted a response to section A of the questionnaire, it did not respond to the remainder of the Department's questionnaire. As a mandatory respondent, Smartcord was required to provide complete questionnaire responses. Therefore, as indicated in the “Application of Adverse Facts Available” section infra, Adverse Facts Available (AFA) was assigned to Smartcord in the Preliminary Results and in these final results. As a result, Smartcord will not receive a separate rate for these final results.

² As in the Preliminary Results, for Shandong Jiaye and Shanghai Charming, we have calculated a weighted-average margin for these final results based on the rates calculated for those producers/exporters that were selected as mandatory respondents, excluding any rates that are zero, de minimis, or based entirely on AFA. See, e.g., Notice of Final Determination of Sales at Less Than Fair Value: Freshwater Crawfish Tail Meat From the People's Republic of China, 62 FR 41347, 41350 (August 1, 1997). Because Fay Candle's rate is the only qualifying rate for this calculation, we applied Fay Candle's rate to Shandong Jiaye and Shanghai Charming for these final results.

With regard to Kingking, however, as detailed in the “Application of Adverse Facts Available” section below, it failed to continue to participate in this review after the Preliminary Results were issued and, thus, did not cooperate to the best of its ability for these final results. As a result, the Department will apply an AFA rate to Kingking.

Application of Adverse Facts Available

In the Preliminary Results, pursuant to sections 776(a)(2)(A) and (B) and section 776(b) of the Act, the Department applied total AFA to the PRC entity, which included four mandatory respondents, the 88 companies that failed to respond to the Department's Q&V letter, and five other entities that did not demonstrate their eligibility for a separate rate. See Attachment II for a listing of these 97 companies.³ In the Preliminary Results, we determined that none of the 97 entities were eligible for a separate rate because they failed to cooperate with the Department to the best of their ability. We noted in the Preliminary Results that some of the companies failed to respond to the Department's Q&V letter, while others failed to respond in whole or in part to the Department's questionnaire. Because none of these companies demonstrated that they were eligible for a separate rate, the Department considered them part of the PRC entity.

³ As noted above, and discussed infra, Kingking is no longer eligible for a separate rate. Therefore, its name has been added to the companies that will receive the AFA rate in these final results. Accordingly, the number of such companies will increase by one to 98.

Since the Preliminary Results, the Department has not received any information on the record of this matter that would cause us to alter our decision in the Preliminary Results regarding the application of AFA to the PRC entity. Therefore, for the reasons cited in the Preliminary Results and in the Decision Memorandum, at Comment 2, the Department will continue to apply the AFA rate to the PRC entity which, as noted above, includes the 97 entities identified in Attachment II.

As noted supra at footnote 3, the Department has determined for these final results that Kingking is no longer eligible for a separate rate because it failed to continue to cooperate to the best of its ability after the Preliminary Results. As further discussed below, pursuant to sections 776(a)(2)(A) and (B) and section 776(b) of the Act, the Department determines that the application of total adverse facts available is warranted for respondent Kingking. Sections 776(a)(2)(A) and 776(a)(2)(B) of the Act provide for the use of facts available when an interested party withholds information that has been requested by the Department, or when an interested party fails to provide the information requested in a timely manner and in the form required.

On September 11, 2003, the Department sent Kingking a letter asking Kingking to reconcile its reported quantity and value information with data from CBP. On September 23, 2003, the Department sent Kingking another letter requesting public summaries of its business proprietary information on the record. The Department attempted several times to solicit responses to the Department's two letters from Kingking, without success. See Memorandum to File from Sally C, Gannon: Qingdao Kingking Chronology (with electronic mail (e-mail) attachments) dated October 14, 2003. These included: an October 3, 2003 e-mail; an October 6, 2003 facsimile; an October 7, 2003 e-mail; and, an October 9, 2003 e-mail. The only response the Department received in reference to its letters was an October 8, 2003 e-mail from a Kingking company official stating that Kingking did not respond to the Department's previous requests. Id. In addition, Kingking did not request further time or assistance in fulfilling its obligation in this regard and stopped participating in the administrative review. Id. Kingking failed to provide information explicitly requested by the Department; therefore, we must resort to use of facts otherwise available. Because Kingking stopped responding to the Department, section 782 (d) and (e) of the Act are not applicable.

Section 776(b) of the Act provides that, in selecting from among the facts available, the Department may use an inference that is adverse to the interests of the respondent, if it determines that a party has failed to cooperate to the best of its ability. The Department finds that, by not providing the necessary responses to the questionnaires issued by the Department, and not providing any explanation, Kingking failed to cooperate to the best of its ability. The information requested by the Department is integral to its antidumping analysis. In addition, because Kingking never responded to the Department's supplemental questionnaires and stopped participating in the review, the Department could no longer rely on any information in its original questionnaire responses to determine whether Kingking was entitled to a separate rate. Without complete questionnaire responses, the Department cannot calculate normal value, and, therefore, a dumping margin. Kingking is the only party which has access to the information requested by the Department and therefore is the only party which could have complied with the Department's supplemental requests for information.

Therefore, in selecting from the facts available, the Department determines that an adverse inference is warranted. In accordance with sections 776(a)(2)(A) and (B), as well as section 776(b) of the Act, because of the breadth of the missing, unsupported and unverifiable data, we are applying total adverse facts available to Kingking. As AFA, and as the PRC-wide rate, the Department is assigning Fay Candle's calculated rate from the instant review, which is the highest rate determined in the current or any previous segment of this proceeding.

We are also applying Fay Candle's rate to the 97 companies listed in Attachment II. Corroboration is not required because this rate is based on, and calculated from, information obtained in the course of this administrative review, i.e., it is not secondary information. See 19 CFR 351.308(c) and (d) and section 776(c) of the Act.

Affiliation

The Department continues to find that Fay Candle and its U.S. importers are unaffiliated. Thus, we continue to treat Fay Candle's sales as EP sales for these final results. For a full discussion of this issue, see Decision Memorandum at Comment 1.

Surrogate Value Changes Since the Preliminary Results

We received comments from Fay Candle and the Petitioner on the surrogate values for numerous factors of production used by the Department to calculate the dumping margin for Fay Candle in the Preliminary Results. As a result of the comments made by the parties, we have changed the HTS classifications, updated the data, and corrected ministerial errors for a number of factors of production. Below is a listing of the factors of production for which we received comments and a brief description of the decisions reached by the Department. For an in-depth discussion of Fay Candle's and the Petitioner's comments and the Department's decisions, see the Memorandum from Sebastian Wright and Mark Hoadley through Sally Gannon to the File Regarding Determination of Surrogate Values for Use in the Final Results of the Administrative Review of Petroleum Wax Candles from the People's Republic of China, dated March 8, 2004; see also Decision Memorandum, at Comment 4.

Paraffin Wax: The Department has determined to use the data set from Chemical Weekly which does not include the data for imports from the PRC to obtain a surrogate value for paraffin wax.

Banding Strap: The Department has decided to classify banding strap under HTS heading 3920.2000, “other plates, sheets film, foil an strip of plastics * * * of polymers of propylene.”

Metal Plate, Metal Star, and Metal Stand: The Department has classified these three inputs under HTS heading 8007.0010, “{o}ther articles of tin: articles not elsewhere specified or included of a type used for household, table or kitchen use; toilet and sanitary wares; all the foregoing not coated or plated with precious metal.”

Masonite Board: The Department has classified Masonite board under HTS heading 4411.0000, “fiberboard of wood or other ligneous materials, whether or not bonded with resins or other organic substances.”

Styrofoam: The Department has classified Styrofoam under HTS heading 3903.1100, “{p}olymers of styrene in primary forms: Expandable.”

Wicks: The Department has classified wicks under HTS heading 5908.0000, “{t}extile wicks, woven, plaited or knitted, for lamps, stoves, lighters, candles or the like; incandescent gas mantles and tubular knitted gas mantle fabric therefore, whether or not impregnated.”

Color Boxes: The Department has classified color boxes under HTS heading 4819.2000, “{o}ther folding cartons, boxes and cases of non-corrugated paper or paperboard.”

PDQs and Sidekick Displays: The Department has classified PDQs and sidekick displays under HTS heading 4819.1000, “cartons, boxes and cases of corrugated paper or paperboard.”

Cardboard and Mastercase: The Department has classified cardboard and mastercase under HTS heading 4819.1000, “cartons, boxes and cases of corrugated paper or paperboard.”

Polyresin Plate: The Department will continue to exclude “aberrational” data from the Indian import statistics used in our calculations for this input.

Scrap Wax: In accordance with the Preliminary Results, the Department will continue to use the scrap wax sold during the POR in order to calculate the adjustment to NV. However, the Department will limit the adjustment to NV to the amount of scrap wax generated from production of subject merchandise during the POR. We also decline to use the Chemical Weekly data for residue wax as the surrogate value for scrap wax.

Scrap Silicone: The Department has determined not to permit an adjustment to NV for the sale of scrap silicone because the Department considers silicone a part of overhead.

Scrap Packing: The Department has determined to average all of the values for Fay Candle's packing material inputs, except for wood pallets, together to calculate a surrogate value for scrap packing material.

Electricity: The Department has updated the data from International Energy Agency's (IEA's) Energy Prices and Taxes as the source for the surrogate value for this input. The Department has also decided to use the electricity industry-specific inflator to adjust the surrogate value to account for inflation through the POR.

Inland Freight Distance for Paraffin Wax: In accordance with the Sigma rule, the Department has determined not to cap the inland freight distance for paraffin wax. The Department has determined that the data for this input does not include import statistics and therefore should not be capped.

Truck Freight Rate: The Department has decided to use the truck freight rate data from Chemical Weekly because this data provides a more accurate surrogate value than the data from Financial Express used in the Preliminary Results.

VYBAR103 Additive: The Department has corrected the ministerial error in the calculation of the surrogate value for this input.

Exchange Rate: The Department has corrected the ministerial error in the calculation of the average Indian exchange rate.

Packing Overhead Cost: The Department has decided not to calculate an adjustment to NV for packing overhead cost.

Coal: The Department has determined to continue to use Indian import statistics to calculate a surrogate value for coal.

Labor Rate: The Department has used updated data from the Department's Web site to calculate a surrogate value for the PRC labor rate. See Import Administration's home page, Import Library, Expected Wages of Selected NME Countries, revised in September 2003 and updated in February 2004, http://www.ia.ita.doc.gov/wages/01wages/01wages.html.

Final Results of Review

We determine that the following percentage margins exist for the period August 1, 2001 through July 31, 2002.

Manufacturer/Exporter | Margin (percent)
Dongguan Fay Candle Co., Ltd. | 95.95
Shanghai Charming Wax Co., Ltd. | 95.95
Shandong Jiaye General Merchandise Co., Ltd. | 95.95
PRC-Wide Rate ⁴ | 95.95

The Department will disclose calculations performed in connection with these final results of review within five days of the date of publication of this notice in accordance with 19 CFR 351.224(b).

⁴ This PRC-wide rate will apply, as discussed above, to all 97 companies listed in Attachment II and to Kingking, as well as to all other companies that do not have a separate rate.

Assessment

The Department will determine, and CBP shall assess, antidumping duties on all appropriate entries. The Department will issue appropriate assessment instructions directly to CBP within 15 days of publication of these final results of review. For Fay Candle, we will direct CBP to assess the resulting assessment rates, where appropriate, on the entered CBP quantity for the subject merchandise for each of the importer's entries during the period of review. For all other entries, we will direct CBP to assess the resulting assessment rates against the entered CBP values for the subject merchandise on each of the exporter's entries during the review period.

Cash Deposit Requirements

The following deposit requirements will be effective upon publication of these final results for this administrative review for all shipments of petroleum wax candles from the PRC entered, or withdrawn from warehouse, for consumption on or after the date of publication, as provided by section 751(a)(2)(C) of the Act: (1) The cash deposit rates for Fay Candle, Shanghai Charming, and Shandong Jiaye will be the rates listed above in the “Final Results of Review” section supra; (2) for previously-reviewed PRC and non-PRC exporters with separate rates, the cash deposit rate will be the company-specific rate established for the most recent period; (3) for all other PRC exporters, the cash deposit rate will be the new PRC-wide rate, as listed above in the “Final Results of Review” section supra; and, (4) for all other non-PRC exporters, the cash deposit rate will be the rate applicable to the PRC supplier of that exporter. These deposit requirements shall remain in effect until publication of the final results of the next administrative review.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (APOs) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this determination and notice in accordance with sections 751(a)(1) and 777(i)(1) of the Act.

Dated: March 8, 2004.
James J. Jochum,
Assistant Secretary for Import Administration.

Attachment I—Comments

1. Affiliation

2. Application of Adverse Facts Available

3. Status of Li & Fung (Trading) Ltd., (Li & Fung)

4. Paraffin Wax

5. Other Factors of Production

Attachment II

Companies Listed in the Initiation Notice and the Preliminary Results notice that are Subject to the PRC-Wide Rate (97 Companies):

ADP (Ningbo, PRC)

ADP Shanghai

Allock Ltd.

Amstar Business Company Limited

Anyway International Trading & Manufacturing Co., Ltd.

Aroma Consumer Products (Hangzhou) Co., Ltd.

Candle World Industrial Co.

China Hebei Boye Great Nation Candle Co., Ltd.

China Overseas Trading Dalian Corp.

China Packaging Import & Export Liaoning Co.

China Xinxing Zhongyuan (Wuhan) Imp. & Exp.

CNACC (Zhejiang) Imports & Export Co., Ltd.

Cnart China Gifts Import & Export Corp.

Dandong Hengtong Handicraft Article Co., Ltd.

Dandong Hengtong Handicraftarticle Co., Ltd.

DDP Qingdao

Dongijeng Fecund Imp. & Exp. Co. Ltd.

Ever-gain Industrial Co.

Excel Network Limited

Far Going Candle Gifts Co., Ltd.

Fu Kit

Fujian Provincial Arts & Crafts Imp. & Exp. Corp.

Fushun Candle Corporation

Fushun Economy Development Zone Xinyang Candle Factory

Fushun Huaiyuan Wax Products Co., Ltd.

Fushun Yuanhang Paraffin Products Industrial Company

Fushun Yuhua Crafts Factory

Gansu Textiles Imp. & Exp. Corp.

Green Islands Industry Shanghai Co. Ltd.

Huangyan Imp. & Exp. Corp.

Huangyan Imp. & Exp. Corp.

Jason Craft Corp.

Jiangsu Holly Corporation

Jiangsu Yixing Foreign Trade Corp.

Jilin Province Arts and Crafts

Jintan Foreign Trade Corp.

Kingking A.C. Co., Ltd.

Kuehne & Nagel (Hong Kong) Beijing

Kwung's International Trade Co., Ltd.

Li & Fung Trading Ltd.

Liaoning Arts & Crafts Import & Export

Liaoning Light

Liaoning Light Industrial Products Import & Export Corp.

Liaoning Native Product Import & Export Corporation, Ltd.

Liaoning Province Building Materials Industrial Im

Liaoning Xinyuan Textiles Import and Export

Lu Ke Trading Co., Ltd.

Ningbo Free Trade Zone Weicheng Trading Co., Ltd.

Ningbo Free Zone Top Rank Trading Co.

Ningbo Kwung's Giftware Co., Ltd.

Ningbo Kwung's Import & Export Co.

Ningbo Sincere Designers & Manufacturers Ltd.

Qingdao Allite Radiance Candle Co., Ltd.

Qingdao Happy Chemical Products Co., Ltd.

Quanzhou Wenbao Light Industry Co.

Red Sun Arts Manufacture (Yixing) Co., Ltd.

Rich Talent Trading Ltd./Smartcord Int'l Co. Ltd.

Round-the-World (USA) Corp.

Round-the-World International Trade & Trans. Service (Tianjin) Co., Ltd.

Seven Seas Candle Ltd.

Shandong H&T Corp.

Shandong Native Produce International Trading Co., Ltd.

Shanghai Arts and Crafts Company

Shanghai Asian Development Int'l Tr

Shanghai Broad Trading Co. Ltd.

Shanghai Gift & Travel Products Import & Export Corp.

Shanghai Gifts & Travel

Shanghai Jerry Candle Co., Ltd.

Shanghai New Star Im/Ex Co., Ltd.

Shanghai Ornate Candle Art Co., Ltd.

Shanghai Shen Hong Corp.

Shanghai Sincere Gifts Designers & Manufacturers, Ltd.

Shanghai Success Arts & Crafts Factory

Shanghai Xietong Group O/B Asia 2 Trading Company

Shanghai Zhen Hua c/o Shanghai Light Industrial Int'l Corp., Ltd.

Silkroad Gifts

Simon Int'l Ltd.

Suzhou Ind'l Park Nam Kwong Imp & Exp Co. Ltd. (No. 339 East Baodai Road, Suzhou)

Suzhou Ind'l Park Nam Kwong Imp & Exp Co. Ltd. (Zhongxing City, Conghuan Rd., Suzhou)

T.H.I.. (HK) Ltd.

Taizhou Int'l Trade Corp.

Taizhou Sungod Gifts Co., Ltd.

THI (HK) Ltd.

Thi Group Ltd. and THI (HK) Ltd.

Tianjin Native Produce Import & Export Group Corp., Ltd.

Tonglu Tiandi

Universal Candle Co., Ltd.

Weltach

World Way International (Xiamen)

World-Green (Shangdong) Corp., Ltd.

Xiamen Aider Import & Export Company

Xiamen C&D Inc.

Xietong (Group) Co., Ltd.

Zhejiang Native Produce & Animal By-Products Import & Export Corp.

Zhong Nam Industrial (International) Co., Ltd.

Zhongnam Candle

Zhongxing Shenyang Commercial Building (Group) Co., Ltd.

[FR Doc. 04-5802 Filed 3-12-04; 8:45 am]

BILLING CODE 3510-DS-P